DEPARTMENT OF LABOR

Employment Standards Administration

Proposed Collection; Comment Request; Correction

ACTION: Correction.

SUMMARY: In Federal Register Volume 66, Number 244, beginning on page 65513 in the issue of Wednesday, December 19, 2001, under Current Actions, under Average hours per response, make the following corrections: On page 65513, Supplementary Information, Background, third sentence, reads “This information collection contains all recordkeeping and reporting requirements which are derived from the implementing regulations found at Title 41 of the Code of Federal Regulations, Chapter 60.” Strike the word “all”. On page 65514, the Average hours per response for the Standard Form 100 was previously listed as 3.8 hours. This should be changed to 3.7 hours.

Dated: December 20, 2001.
Margaret J. Sherrill,
Chief, Branch of Management Review and Internal Control, Division of Financial Management, Office of Management, Administration and Planning, Employment Standards Administration.

[FR Doc. 01-31962 Filed 12-27-01; 8:45 am]

BILLING CODE 4510-CM-M